DEPARTMENT OF THE INTERIOR

National Park Service

[NPS-WASO-NAGPRA-20589]; [PPWOCRADN0-PCU00RP14.R50000]

Notice of Inventory Completion: Catalina Island Museum, Avalon, CA

AGENCY: National Park Service, Interior.

ACTION: Notice.

SUMMARY: The Catalina Island Museum has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Catalina Island Museum. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Catalina Island Museum at the address in this notice by May 5, 2016.

ADDRESSES: Michael DeMarsche, Ph.D., Catalina Island Museum, 1 Casino Way, Casino Building, P.O. Box 366, Avalon, CA 90704, telephone (310) 510-2416, email director@catalinamuseum.org.

SUPPLEMENTARY INFORMATION: Notice is here given in accordance with the Native American Graves Protection and Repatriation Act (NAGPRA), 25 U.S.C. 3003, of the completion of an inventory of human remains and associated funerary objects under the control of the Catalina Island Museum, Avalon, CA. The human remains and associated funerary objects were removed from Los Angeles County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Catalina Island Museum professional staff in consultation with representatives of San Manuel Band of Mission Indians, California (previously listed as the San Manual Band of Serrano Mission Indians of the San Manual Reservation); Santa Ynez Band of Chumash Mission Indians of the Santa Ynez Reservation, California; and the following nonfederally recognized Indian groups: Gabrielino/Tongva Indians of California Tribe; Gabrieleno/Tongva Tribal Council; San Gabriel Band of Mission Indians; and the Traditional Council of Pimu.

History and Description of the Remains

From 1953-1955, human remains representing, at minimum, two individuals were removed from the Little Harbor Site (CA-SCAI-17) in Los Angeles County, California. Dr. Clement Meighan, of Department of Anthropology at University of California, Los Angeles (UCLA), and students conducted excavations at various times from 1953 to 1955, as part of a research project. The collection was returned to the Catalina Island Museum as part of the fulfillment of their excavation permit in 1996. Radiocarbon dating is from the Early Period (5580 B.C.), and was occupied until Spanish contact based on the presence of glass trade beads. The date of these human remains is assumed to be fairly late considering its proximity to the surface. The human remains are represented by one adult individual of indeterminate sex and one individual represented by a human phalanx with age and sex indeterminable. No known individuals were identified. No associated funerary objects were present.

In 1977, human remains representing, at minimum, 22 individuals were removed from Ripper's Cove (SCAI-26) in Los Angeles County, CA. Fred Reinman and Hal Eberhart of the California State University, Los Angeles, Department of Anthropology excavated the site as a field school. The collection was returned to the Catalina Island Museum as part of the fulfillment of their excavation permit in 1996. Radiocarbon dates the site from A.D. 1340 to 1730. The collection included four identified burials from Ripper's Cove along with fragmentary human remains from midden contexts. The human remains were determined to be 17 adults, a sub-adult, two juveniles, and an infant, all of indeterminate sex, and one individual that could not identified to age or sex. No known individuals were identified. The 176 associated funerary objects include 1 projectile point, 125 shell beads, 1 bag of shell beads, 2 fishhook fragments, 2 fragments and 2 bags of shell, 2 fish gorges, 8 red ochre fragments, 6 stone flakes, 6 ground stone fragments, 7 pieces and 2 bags of unmodified animal bone, 3 bags of charcoal, 8 pieces and 1 bag of stone fragments.

At an unknown date, human remains representing, at minimum, five individuals were removed from the former location of the Busy Bee Restaurant, Avalon, in Los Angeles County, CA. The location within the village site designated as SCAI-29. The human remains were found during renovations at the restaurant and donated to the Catalina Island Museum in 1983 (accessioned as 83.031). There is no date associated with the human remains. Osteological analysis identified the human remains to be Native American. The five individuals were identified as perinatal, two children, one juvenile, and one adult in age. Sex could not be determined. No known individuals were identified. No associated funerary objects are present.

In February 1973, human remains representing, at minimum, four individuals were removed from Torqua Cave (SCAI-32) in Los Angeles County, CA. This collection was excavated by Nelson Leonard, III of University of California, Riverside, and his undergraduate students as a research project. The collection was returned to the Catalina Island Museum as part of the fulfillment of their excavation permit in 1996. No dates have been determined for the site. One burial was distinguished during excavation. Additional human remains were identified from faunal bone. A minimum of four individuals are included in the collection, two of which are adults and one sub-adult. Sex of these human remains could not be determined. The fourth set of human remains was not distinguishable to age or sex. No known individuals were identified. The one associated funerary object is one bag of soil taken from the burial matrix.

At an unknown date, human remains representing, at minimum, six individuals were removed from Empire Landing (CA-SCAI-26) in Los Angeles County, CA. The site was excavated by Vivian Scott, who donated the collection to the Catalina Island Museum in 1968 (accessioned as 68.015). Site SCAI-26 dates from at least the Late Period (A.D. 700-1769) through Spanish contact based on artifact types. The human remains were identified as five adults, three of them female, and one juvenile. No known individuals were identified. The two associated funerary objects are one fish bone and one shell fragment.

In February 1968, human remains representing, at minimum, one individual were removed from Empire Landing in Los Angeles County, CA. These human remains were excavated by P. Williams of the Catalina Laboratory for Archaeology (CLFA) from the Empire Landing area along a cliff edge where there is a midden. There was a stone slab above the burial, but there is no record of the slab being collected. The collection was turned over to the Catalina Island Museum after analysis. SCAI-26 is close by and dates from at least the Late Period (A.D. 700-1769) through Spanish contact based on artifact types. Fragmentary human remains of a Native American adult female were identified. No known individuals were identified. No associated funerary objects are present.

In April 1970 and 1972, human remains representing, at minimum 15 individuals were removed from White's Landing (SCAI-34) in Los Angeles County, CA. The first excavation was led by UCLA undergraduate Dean Decker, in April 1970, as part of the University of California Archaeological Survey. Their goal was to assess settlement patterns on the island using White's Landing West as one chosen site for comparison and analysis. Students from UCLA and the Catalina Island School for Boys assisted in the fieldwork for this project. Catalina Island School (CIS) returned to White's Landing West with Mayfield School in 1972, and continued to excavate the principal village at this cove. The project was likely led by CIS staff archeologist Richard “Duke” Snyder. However, the documentation associated with this separate project is scant at best. The UCLA archeological excavations were sent to the Catalina Island Museum as part of the permit stipulation in 1983. The CIS material was curated with the Catalina Island Museum upon completion of the fieldwork. SCAI-34 dates from at least the Late Period (A.D. 700-1769) through Spanish contact based on artifact types. While only two formal burials were designated in the catalog, fragmentary human remains were pulled from midden contexts as well. The 15 individuals have been identified as 9 adults, 2 juveniles, 2 subadults, and one infant. One individual was to fragmentary to determine age or sex. Two of the adults were further defined as male. No known individuals were identified. The 60 associated funerary objects are 22 shell fishhook blanks, 2 projectile points, 1 steatite bowl, 1 net weight, 1 bag of charcoal fragments, 18 pieces and 2 bags of unmodified animal bone, 1 worked bone fragment, 3 pieces of worked shell, 2 unmodified wavy top shells, 1 stone fragment, 5 chipped stone and tools, and 1 stone core fragment.

At an unknown date, human remains representing, at minimum, 10 individuals were removed from Two Harbors (CA-SCAI-39) in Los Angeles County, CA. The site was excavated by Preston Taylor, who ran the concessions at Two Harbors during the time. He donated the collection of human remains to the Catalina Island Museum in 1961, and it was accessioned as 61.501. SCAI-39 dates from at least the Late Period (A.D. 700-1769) through Spanish contact based on artifact types. There were a nine adults and one juvenile identified. Further analysis identified four of them as female. No known individuals were identified. No associated funerary objects are present.

In August 1963, human remains representing, at minimum, six individuals were removed from Two Harbors (SCAI-39) in Los Angeles County, CA. The human remains were recovered by Dorothy Cowper, from construction activities associated with a fuel line. As a docent at the Southwest Museum, she, along with other visitors and Catalina locals, recovered materials that were being destroyed. Many of the artifacts appear to have left with the amateur excavators as souvenirs as indicated in letters between Cowper and the excavators. Records indicate that the human remains were eventually obtained by UCLA from Ben Hawkins, a zoologist at San Jacinto College, who was on site with Cowper in 1963, and donated to the Catalina Island Museum in 1996. SCAI-39 dates from at least the Late Period (A.D. 700-1769) through Spanish contact based on artifact types. The human remains were identified as four adults, and two sub-adults. Two of the adults were further distinguished as female. No known individuals were identified. No associated funerary objects are present.

In October and November 1969, human remains representing, at minimum, 70 individuals were removed from Two Harbors (CA-SCAI-39) in Los Angeles County, CA. The University of California Archaeological Survey undertook salvage recovery excavations, where the demolition of structures would impact the site. This salvage excavation was accomplished with the help of volunteers from Catalina Island School for Boys, Catalina Island Museum Society, and CEDAM International. The collection was returned to the Catalina Island Museum as part of the fulfillment of their excavation permit in 1996. SCAI-39 dates from at least the Late Period (A.D. 700-1769) through Spanish contact based on diagnostic artifact types. While there were 16 formal burials identified, many fragmentary human remains were encountered in midden contexts. The 70 individuals were identified as 47 adults (12 distinguished as female and 9 as male), 8 sub-adults, 6 juveniles, 5 infants, 1 neonatal, and 2 perinatal. One set of human remains could not be further identified with age or sex. No known individuals were identified. The 226 associated funerary objects include 56 shell and stone beads, 1 fishhook blank, 1 basketry fragment, 1 soapstone plaque, 6 soapstone worked fragments, 5 quartz fragments, 6 stone flakes, 1 core, 1 cobble with asphaltum residue, 2 projectile points, 7 bowl fragments, 1 mano fragment, 4 donut stone fragments, 10 burned seeds, 9 bone awls, 7 charcoal fragments, 101 pieces and 1 bag of unmodified shell, 3 pieces and 2 bags of unmodified animal bone, and 1 bag of stone fragments.

In September 1954, human remains representing, at minimum, two individuals were removed from Parson's Landing (CA-SCAI-102) in Los Angeles County, CA. Dr. Clement Meighan of UCLA, and his students, excavated one test pit and encountered a burial (UCLA Accession 166) as part of a research project. The collection was returned to the Catalina Island Museum as part of the fulfillment of their excavation permit in 1996. No date has been determined for the site or burial, but diagnostic artifacts from the site identify it as prehistoric. The two individuals were identified as an adult male and an adult of indeterminate sex. No known individuals were identified. No associated funerary objects are present.

In April 1971, human remains representing, at minimum, one individual were removed from the West End Site (SCAI-106) in Los Angeles County, CA. Fredric Plog led a UCLA undergraduate field course at the prehistoric site. Analysis continued with the collection at UCLA. The collection was returned to the Catalina Island Museum as part of the fulfillment of their excavation permit in 1996. No dates have been determined for the site. While no formal burials were removed, a single adult human phalanx was identified within the faunal remains. Sex could not be determined. No known individuals were identified. No associated funerary objects are present.

In the summers of 1980 and 1981, human remains representing, at minimum, four individuals were removed from Bullrush Canyon (CA-SCAI-137) in Los Angeles County, CA. The site was excavated by Jane Rosenthal, of California State University, Long Beach, as an undergraduate field school. The site is estimated to A.D. 1600-1700 based on radiocarbon dating. The collection was donated to the Catalina Island Museum in fulfillment of their Catalina Island Conservancy permit upon competition of their analysis. No formal burials or funerary objects were identified. Fragmentary human remains were discovered among faunal remains from the collection. Age and sex of the human remains could not be determined. No known individuals were identified. No associated funerary objects are present.

From 1967 to 1969, human remains representing, at minimum, 17 individuals were removed from Toyon Bay (CA-SCAI-564) in Los Angeles County, CA. Jack Zahniser, of the Catalina Laboratory for Archaeology (CLFA), and his students from the Catalina Island Boy's School, undertook salvage recovery during the construction of a new boathouse and the installation of a septic tank. The collection was turned over to the Catalina Island Museum after analysis was completed. Radiocarbon dating estimates site occupation from A.D. 465 to 1685. The collection contains eleven recorded burials and fragmentary human remains found within midden contexts. The 17 individuals were identified as 12 adults (including 2 males and 2 females), 1 sub-adult, 2 infants, and 1 perinatal. One individual was too fragmentary to determine age or sex. No known individuals were identified. The 97 associated funerary objects are 24 shell and stone beads, 5 donut stones, 35 ground stone tools and fragments, 2 projectile points, 5 effigies, 13 shell and stone pendants and ornaments, 1 pipe fragment, 2 bowl fragments, 2 unmodified shell fragments, 5 chipped stone tools and flakes, 2 worked bone fragments, and 1 fishhook.

At an unknown date, human remains representing, at minimum, two individuals were removed from an archeological site at Little Gibraltar in Los Angeles County, CA. The human remains were found eroding from the area by Catalina Island Company staff and donated to the Catalina Island Museum in 1974 (accessioned as 74.253). There is no date associated with the human remains. One set of human remains was identified as an adult female of Native American ancestry based on metric and non-metric traits. The other human remains were too fragmentary to identify further. No known individuals were identified. No associated funerary objects are present.

At an unknown date, human remains representing, at minimum, one individual were removed from Renton's Mine streambed in Los Angeles County, CA. The human remains were found eroding from the streambed by Buzzy Vickers, and donated to the Catalina Island Museum in 1977 (accessioned as 77.030). There is no date associated with the human remains, but they were found near a known prehistoric archeological site. Fragmentary human remains of an adult female of Native American origin were identified through osteological analysis. No known individuals were identified. No associated funerary objects are present.

The sites detailed in this notice have been identified by consultation to be within the traditional territories of the Gabrielino (Tongva) with ancestral ties to the Chumash island people. Archeological and ethnohistoric evidence shows that these contact Takic-speaking peoples lived on the southern Channel Islands by at least 5,000 B.C. Island Tongva and Chumash groups have strong ancestral ties through marriage and trade. Analysis of historical records from missions in the Greater Los Angeles area demonstrate kinship ties between these two communities made stronger while in the mission system. The present-day Santa Ynez Band of Chumash Mission Indians traces an earlier shared group identity with the Gabrielino (Tongva) people that inhabited the Channel Islands during the Middle period and through contact.

Associated funerary objects are consistent with those of groups ancestral to the present-day Gabrielino (Tongva) and Chumash people. The material culture of earlier groups living in the geographical areas mentioned above are characterized by archeologists as having passed through stages over the past 5,000 years. Many local archeologists assert that the changes in the material culture reflect evolving ecological adaptations and related changes in social organization of the same populations, and do not represent population displacements or movements. The same range of artifact types and materials were used from the pre-contact period until historic times. Native consultants explicitly state that population mixing, which did occur, would not alter the continuity of the shared group identities of people associated with specific locales. Based on this evidence, continuity through time can be traced for all sites listed above with present-day Gabrielino (Tongva) and Chumash people. Santa Ynez Band of Chumash Mission Indians tribal members descend from the Channel Islands and specifically represent an ancestral tie to the Gabrielino (Tongva) and Catalina Island by preponderance of the evidence.

Determinations Made by the Catalina Island Museum

Officials of the Catalina Island Museum have determined that:

• Pursuant to 25 U.S.C. 3001(9), the human remains described in this notice represent the physical remains of 164 individuals of Native American ancestry.

• Pursuant to 25 U.S.C. 3001(3)(A), the 563 objects described in this notice are reasonably believed to have been placed with or near individual human remains at the time of death or later as part of the death rite or ceremony.

• Pursuant to 25 U.S.C. 3001(2), there is a relationship of shared group identity that can be reasonably traced between the Native American human remains and associated funerary objects and the Santa Ynez Band of Chumash Mission Indians of the Santa Ynez Reservation, California.

Additional Requestors and Disposition

Lineal descendants or representatives of any Indian tribe or Native Hawaiian organization not identified in this notice that wish to request transfer of control of these human remains and associated funerary objects should submit a written request with information in support of the request to Michael DeMarsche, Ph.D., Catalina Island Museum, 1 Casino Way, Casino Building, P.O. Box 366, Avalon, CA 90704, telephone (310) 510-2416, email director@catalinamuseum.org, by May 5, 2016. After that date, if no additional requestors have come forward, transfer of control of the human remains and associated funerary objects to San Manuel Band of Mission Indians, California.

The Catalina Island Museum is responsible for notifying the San Manuel Band of Mission Indians, California (previously listed as the San Manual Band of Serrano Mission Indians of the San Manual Reservation); Santa Ynez Band of Chumash Mission Indians of the Santa Ynez Reservation, California; and the following nonfederally recognized Indian groups: Gabrielino/Tongva Indians of California Tribe; Gabrieleno/Tongva Tribal Council; San Gabriel Band of Mission Indians; and the Traditional Council of Pimu that this notice has been published.

Dated: March 10, 2016.
Melanie O'Brien,
Manager, National NAGPRA Program.

[FR Doc. 2016-07763 Filed 4-4-16; 8:45 am]

BILLING CODE 4312-50-P